DEPARTMENT OF HOUSING AND URBAN DEVELOPMENT

[Docket No. FR-4541-N-04]

Notice of Proposed Information Collection Revision: Comment Request, FHIP SuperNOFA Application Kit

AGENCY: Office of the Assistant Secretary for Fair Housing and Equal Opportunity, HUD.

ACTION: Notice.

SUMMARY: The proposed information collection requirement concerning the Fair Housing Initiatives Program will be submitted to the Office of Management and Budget (OMB) for review, as required by the Paperwork Reduction Act. The Department is soliciting public comments on the subject proposal.

DATES: Comments Due Date: February 12, 2001.

ADDRESSES: Interested persons are invited to submit comments regarding this proposal. Comments should refer to the proposal by name and/or OMB Control Number and should be sent to Myron Newry, Department of Housing and Urban Development, 451 7th Street, SW., Room 5228, Washington, DC 20410. Telephone number (202) 708-0800.

FOR FURTHER INFORMATION CONTACT: Myron Newry, Department of Housing and Urban Development, 451 7th Street, SW., Washington, DC 20410, telephone (202) 708-0050. (This is not a toll-free number). Hearing or speech-impaired individuals may access this TTY number by calling the toll-free Federal Information Relay Service at 1-800-877-8399.

SUPPLEMENTARY INFORMATION: The Department is submitting the proposed information collection to OMB for review, as required by the Paperwork Reduction Act (44 U.S.C. Chapter 35), as amended.

This Notice is soliciting comments from members of the public and affecting agencies concerning the proposed collection of information to certify: (1) That recipients of FHIP funds will not use FHIP funds to settle a claim, satisfy a judgment, or fulfill a court order in any defensive litigation or (2) whether key project personnel have a prior felony conviction or been convicted of a crime or crimes involving fraud or perjury.

Notice of Submission of Proposed Information Collection Revision to OMB

Title: Fair Housing Initiatives Program SuperNOFA Application Kit and Reporting/Recordkeeping Requirements Revision.

OMB Approval Number: 2529-0033.

Description of the Need for the Information and its Proposed Use: The information required by this certification will enable the Department to determine that selected agencies are using FHIP funds as intended (to prevent and eliminate discriminatory housing practices). These grants are authorized under Section 561 of the Housing and Community Development Act of 1987 (42 U.S.C. 3616 note, established the Fair Housing Initiatives Program (FHIP) and the implementing regulations are found at 24 CFR Part 125.

Agency form numbers: SF-269A, SF-424/A/B/M: SF-LLL, HUD 2880, HUD 2992, HUD50070, HUD-50071:

Members of Affected Public: 400.

Reporting Burden: The Department estimates that the application kit, Certificate, quarterly report, final report, and enforcement log, will have the following reporting burdens:

Application | Number of respondents | Frequency | Hours per response | Burden hours
Development | 400 | 1 | 53 | 21,200
The number of respondents is based on the total number of applications received under all initiatives. The number of hours per response is an average based on grantee estimates of time to review instructions, search existing data sources, prepare required responses to the application kit, and assemble exhibits.
Certification | 70 | 2 | 4 | 560
Quarterly Report | 70 | 4 | 12 | 3,360
Enforcement Log | 35 | 4 | 7 | 980
Final Report | 70 | 1 | 20 | 1,400

Estimates are based on 70 of 400 applications funded, thus, 70 respondents will file a Certification for Recipients of FHIP Funds, at least twice. In addition, respondents will report 4 times annually on program performance and financial status. Approximately one-half of the funded recipients will be requested to complete the enforcement log. Hours per response are averages based on grantee estimates of time to review instructions, search existing data sources, gather and maintain the needed data, and complete or respond to the requested information. Actual time may vary because of differences in grant activities, size, or complexity, and depending on whether the grantee automates the format.

Status of the proposed information collection: Revision.

Authority: The Paperwork Reduction Act of 1995, 44 U.S.C. 35, as amended.

Dated: December 5, 2000.
Pamela Walsh,
Director, Program Standards Division.

[FR Doc. 00-31503 Filed 12-11-00; 8:45 am]

BILLING CODE 4210-28-M